SMALL BUSINESS ADMINISTRATION

[Declaration of Disaster #P033]

State of Arkansas

As a result of the President's major disaster declaration for Public Assistance on May 7, 2004, the U.S. Small Business Administration is activating its disaster loan program only for private non-profit organizations that provide essential services of a governmental nature. I find that Baxter, Boone, Carroll, Franklin, Jackson, Johnson, Madison, Marion, Newton, Searcy, Stone, Washington, and Woodruff Counties in the State of Arkansas constitute a disaster area due to damages caused by severe storms, flooding and landslides occurring on April 19, 2004, and continuing. Applications for loans for physical damage as a result of this disaster may be filed until the close of business on July 6, 2004, at the address listed below or other locally announced locations: U.S. Small Business Administration, Disaster Area 3 Office, 14925 Kingsport Road, Ft. Worth, TX 76155-2243.

The interest rates are:

| Percent
For Physical Damage:
NON-PROFIT ORGANIZATIONS WITHOUT CREDIT AVAILABLE ELSEWHERE | 2.750
NON-PROFIT ORGANIZATIONS WITH CREDIT AVAILABLE ELSEWHERE | 4.875

The number assigned to this disaster for physical damage is P03311.

(Catalog of Federal Domestic Assistance Program Nos. 59008).
Dated: May 17, 2004.
Allan I. Hoberman,
Acting Associate Administrator for Disaster Assistance.

[FR Doc. 04-11578 Filed 5-20-04; 8:45 am]

BILLING CODE 8025-01-P